FEDERAL TRADE COMMISSION

16 CFR PART 23

Guides for the Jewelry, Precious Metals, and Pewter Industries

AGENCY: Federal Trade Commission (“FTC” or “Commission”).

ACTION: Notice of extension of deadline for submission of public comments.

SUMMARY: The FTC is extending the deadline for filing public comments on the Guides for the Jewelry, Precious Metals, and Pewter Industries.

DATES: Comments must be received on or before September 28, 2012.

ADDRESSES: Interested parties may file comments online or on paper by following the instructions at the end of the SUPPLEMENTARY INFORMATION section below. Write “Jewelry Guides, 16 CFR Part 23, Project No. G711001” on your comment, and file your comment online at https://ftcpublic.commentworks.com/ftc/jewelryguidesreview by following the instructions on the web-based form. If you prefer to file your comment on paper, mail or deliver your comment to the following address: Federal Trade Commission, Office of the Secretary, Room H-113 (Annex O), 600 Pennsylvania Avenue NW., Washington, DC 20580.

FOR FURTHER INFORMATION CONTACT: Reenah L. Kim, Attorney, (202) 326-2272, Division of Enforcement, Bureau of Consumer Protection, Federal Trade Commission, 600 Pennsylvania Avenue NW., Washington, DC 20580.

SUPPLEMENTARY INFORMATION: On July 2, 2012, as part of the Commission's systematic review of its rules and guides, the FTC published a notice in the Federal Register (“FRN”) requesting public comments on the Guides for the Jewelry, Precious Metals, and Pewter Industries (“Jewelry Guides” or “Guides).¹ The FRN solicits comments on the Guides' costs and benefits, and on whether the Commission should repeal, amend, or retain the Guides in their current form. The FRN also solicits comments on several specific issues concerning composite gemstones, pearls, diamonds, and precious metal alloys, as well as comments regarding any other issues or concerns relating to the Guides. The FRN sets August 27, 2012 as the deadline for filing comments.

¹ 77 FR 39201 (July 2, 2012).

A trade association representing jewelry industry members, Jewelers Vigilance Committee (“JVC”), requests a 32-day extension of the comment deadline. JVC explains that the market research companies retained to obtain consumer perception data need additional time to complete their tasks. JVC further notes the FRN contains 24 separate questions, many with subparts, covering a wide array of topics and raising complicated issues that call for technical submissions by metallurgical and gemological experts, in addition to targeted market research data. JVC states the current deadline does not provide sufficient time to develop comments and supporting evidence that would fully address the issues.

The Commission has decided to extend the comment period to September 28, 2012. Given the complexity and range of issues raised in the FRN, including the request for consumer perception evidence, the Commission believes that allowing additional time for filing comments may help facilitate the creation of a more complete record. Moreover, this brief extension would not harm consumers, as the current Guides remain in effect during the review process.

You can file a comment online or on paper. For the Commission to consider your comment, we must receive it on or before September 28, 2012. Write “Jewelry Guides, 16 CFR Part 23, Project No. G711001” on your comment. Your comment—including your name and your state—will be placed on the public record of this proceeding, including, to the extent practicable, on the public Commission Web site, at http://www.ftc.gov/os/publiccomments.shtm. As a matter of discretion, the Commission tries to remove individuals' home contact information from comments before placing them on the Commission Web site. Because your comment will be made public, you are solely responsible for making sure that your comment does not include any sensitive personal information, such as anyone's Social Security number, date of birth, driver's license number or other state identification number or foreign country equivalent, passport number, financial account number, or credit or debit card number. You are also solely responsible for making sure that your comment does not include any sensitive health information, such as medical records or other individually-identifiable health information. In addition, do not include any “trade secret or any commercial or financial information which is * * * privileged or confidential,” as discussed in Section 6(f) of the FTC Act, 15 U.S.C. 46(f), and FTC Rule 4.10(a)(2), 16 CFR 4.10(a)(2). In particular, do not include competitively sensitive information such as costs, sales statistics, inventories, formulas, patterns, devices, manufacturing processes, or customer names.

If you want the Commission to give your comment confidential treatment, you must file it in paper form, with a request for confidential treatment, and you must follow the procedure explained in FTC Rule 4.9(c), 16 CFR 4.9(c).² Your comment will be kept confidential only if the FTC General Counsel, in his or her sole discretion, grants your request in accordance with the law and the public interest.

² In particular, the written request for confidential treatment that accompanies the comment must include the factual and legal basis for the request and must identify the specific portions of the comment to be withheld from the public record. See FTC Rule 4.9(c), 16 CFR 4.9(c).

Postal mail addressed to the Commission is subject to delay due to heightened security screening. Accordingly, we encourage you to submit your comments online. To make sure that the Commission considers your online comment, you must file it at https://ftcpublic.commentworks.com/ftc/jewelryguidesreview by following the instructions on the web-based form. If this Notice appears at http://www.regulations.gov, you also may file a comment through that Web site.

If you file your comment on paper, write “Jewelry Guides, 16 CFR Part 23, Project No. G711001” on your comment and on the envelope, and mail or deliver it to the following address: Federal Trade Commission, Office of the Secretary, Room H-113 (Annex O), 600 Pennsylvania Avenue NW., Washington, DC 20580. If possible, submit your paper comment to the Commission by courier or overnight service.

Visit the Commission Web site at http://www.ftc.gov to read this Notice and the news release describing it. The FTC Act and other laws that the Commission administers permit the collection of public comments to consider and use in this proceeding as appropriate. The Commission will consider all timely and responsive public comments that it receives on or before September 28, 2012. You can find more information, including routine uses permitted by the Privacy Act, in the Commission's privacy policy at http://www.ftc.gov/ftc/privacy.htm.

By direction of the Commission.
Donald S. Clark,
Secretary.

[FR Doc. 2012-20417 Filed 8-17-12; 8:45 am]

BILLING CODE 6750-01-P